DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (301) 443-7978.

Community Mental Health Centers (CMHC) Construction Grantee Checklist—(OMB No. 0930-0104, Extension, no change)—Recipients of Federal CMHC construction funds are obligated to use the constructed facilities to provide mental health services. The CMHS Act was repealed in 1981 except for the provision requiring grantees to continue using the facilities for mental health purposes for a 20-year period. In order for SAMHSA's Center for Mental Health Services to monitor compliance of construction grantees, the grantees are required to submit an annual report. This annual Checklist enables grantees to supply necessary information efficiently and with a minimum of burden. The following table summarizes the annual burden for this program.

| Annual respondents | Responses/respondent | Hours per response | Annual burden
CMHS Grantee Construction Checklist [42 CFR 54.209(h), 42 CFR 54.213, 42 CFR 54.214] | 6 | 1 | .42 | 3

Written comments and recommendations concerning the proposed information collection should be sent by June 23, 2004, to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: May 14, 2004.
Anna Marsh,
Executive Officer, SAMHSA.

[FR Doc. 04-11639 Filed 5-21-04; 8:45 am]

BILLING CODE 4162-20-P